DEPARTMENT OF ENERGY

Federal Energy Regulatory Commission

Combined Notice of Filings #2

Take notice that the Commission received the following electric rate filings:

Docket Numbers: ER11-3963-001.

Applicants: Bruce Power Inc.

Description: Supplement to Updated Market Power Analysis for the Northeast Region of Bruce Power Inc.

Filed Date: 12/9/11.

Accession Number: 20111209-5275.

Comments Due: 5 p.m. ET 12/30/11.

Docket Numbers: ER12-21-002.

Applicants: Agua Caliente Solar, LLC.

Description: Notice of Change in Status and Request for Expedited Action of Agua Caliente Solar, LLC.

Filed Date: 12/20/11.

Accession Number: 20111220-5086.

Comments Due: 5 p.m. ET 1/10/12.

Docket Numbers: ER12-361-000.

Applicants: South Carolina Electric & Gas Company.

Description: Refund Report—12.20.2011 to be effective N/A.

Filed Date: 12/20/11.

Accession Number: 20111220-5065.

Comments Due: 5 p.m. ET 1/10/12.

Docket Numbers: ER12-595-000.

Applicants: Constellation Power Source Generation, Inc.

Description: Report regarding Keystone Project Joint Rate Schedule FERC No. 1 to be effective N/A.

Filed Date: 12/20/11.

Accession Number: 20111220-5077.

Comments Due: 5 p.m. ET 1/10/12.

Docket Numbers: ER12-596-000.

Applicants: Constellation Power Source Generation, Inc.

Description: Report regarding Conemaugh Project Joint Rate Schedule FERC No. 1 to be effective N/A.

Filed Date: 12/20/11.

Accession Number: 20111220-5079.

Comments Due: 5 p.m. ET 1/10/12.

Docket Numbers: ER12-639-000.

Applicants: ISO New England Inc., The United Illuminating Company.

Description: The United Illuminating Company Schedule 21 UI Tariff Clarification to be effective 12/21/2011.

Filed Date: 12/20/11.

Accession Number: 20111220-5018.

Comments Due: 5 p.m. ET 1/10/12.

Docket Numbers: ER12-642-000.

Applicants: Midwest Independent Transmission System Operator, Inc.

Description: G282 Termination to be effective 2/19/2012.

Filed Date: 12/20/11.

Accession Number: 20111220-5055.

Comments Due: 5 p.m. ET 1/10/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2011.
Nathaniel J. Davis, Sr.,
Deputy Secretary.

[FR Doc. 2011-33516 Filed 12-29-11; 8:45 am]

BILLING CODE 6717-01-P